DEPARTMENT OF COMMERCE

Foreign-Trade Zones Board

[B-27-2021]

Foreign-Trade Zone (FTZ) 106—Oklahoma City, Oklahoma; Authorization of Production Activity; Miraclon Corporation (Flexographic/Aluminum Printing Plates and Direct Imaging/Thermo Imaging Layer Film), Weatherford, Oklahoma

On March 17, 2021, Miraclon Corporation submitted a notification of proposed production activity to the FTZ Board for its facility within Subzone 106F, in Weatherford, Oklahoma.

The notification was processed in accordance with the regulations of the FTZ Board (15 CFR part 400), including notice in the Federal Register inviting public comment (86 FR 17772, April 6, 2021). On July 15, 2021, the applicant was notified of the FTZ Board's decision that no further review of the activity is warranted at this time. The production activity described in the notification was authorized, subject to the FTZ Act and the FTZ Board's regulations, including Section 400.14.

Dated: July 15, 2021.
Elizabeth Whiteman,
Acting Executive Secretary.

[FR Doc. 2021-15410 Filed 7-19-21; 8:45 am]

BILLING CODE 3510-DS-P